Title 3—

The President

Proclamation 10405 of May 31, 2022

Adjusting Imports of Aluminum Into the United States

By the President of the United States of America

A Proclamation

1. On January 19, 2018, the Secretary of Commerce (Secretary) transmitted to the President a report on the Secretary's investigation into the effect of imports of aluminum articles on the national security of the United States under section 232 of the Trade Expansion Act of 1962, as amended (19 U.S.C. 1862). The Secretary found and advised the President of his opinion that aluminum articles are being imported into the United States in such quantities and under such circumstances as to threaten to impair the national security of the United States.

2. In Proclamation 9704 of March 8, 2018 (Adjusting Imports of Aluminum Into the United States), the President concurred in the Secretary's finding that aluminum articles are being imported into the United States in such quantities and under such circumstances as to threaten to impair the national security of the United States, and decided to adjust the imports of aluminum articles by imposing a 10 percent ad valorem tariff on such articles imported from all countries except Canada and Mexico. The proclamation further stated that any country with which we have a security relationship is welcome to discuss with the United States alternative ways to address the threatened impairment of the national security caused by imports from that country, and noted that, should the United States and any such country arrive at a satisfactory alternative means to address the threat to the national security such that the President determines that imports from that country no longer threaten to impair the national security, the President may remove or modify the restriction on aluminum articles imports from that country and, if necessary, adjust the tariff as it applies to other countries, as the national security interests of the United States require.

3. The United States has successfully concluded discussions with the United Kingdom (UK) on satisfactory alternative means to address the threatened impairment to our national security posed by aluminum articles imports from the UK. The United States and the UK have agreed to expand coordination involving trade remedies and customs matters, monitor bilateral steel and aluminum trade, cooperate on addressing non-market excess capacity and carbon intensity in these sectors, annually review their arrangement and their ongoing cooperation, and confer on market-distorting influence or ownership in the steel and aluminum industries. The United States will monitor the implementation and effectiveness of the measures agreed upon with the UK in addressing our national security needs, and I may revisit this determination, as appropriate.

4. The United States will implement a number of actions, including a tariff-rate quota that restricts the quantity of aluminum articles imported into the United States from the UK without the application of the tariff proclaimed in Proclamation 9704. Under the arrangement, aluminum articles, except semi-finished wrought aluminum articles, that are accompanied by a certificate of analysis are eligible for in-quota treatment. In order to be eligible for in-quota treatment, semi-finished wrought aluminum articles must be accompanied by a certificate of analysis and must not contain primary aluminum from the People's Republic of China, the Russian Federation, or the Republic of Belarus. In my judgment, these measures will provide an effective, long-term alternative means to address any contribution by UK aluminum articles imports to the threatened impairment to our national security by restraining aluminum articles imports to the United States from the UK, limiting transshipment, and discouraging excess capacity and excess aluminum production. In light of this agreement, I have determined that specified volumes of eligible aluminum articles imports from the UK will no longer threaten to impair the national security and have decided to exclude such imports from the UK up to a designated quota from the tariff proclaimed in Proclamation 9704. The United States will monitor the implementation and effectiveness of the tariff-rate quota and other measures agreed upon with the UK in addressing our national security needs, and I may revisit this determination, as appropriate.

5. The alternative means, including the tariff-rate quota, are consistent with the recommendations specified in the original investigation into the effect of imports of aluminum articles on the national security of the United States under section 232 of the Trade Expansion Act of 1962, as amended. The agreed-upon aggregate tariff-rate quota volume, totaling 900 metric tons of unwrought aluminum, 11,400 metric tons of semi-finished wrought aluminum other than foil, and 9,300 metric tons of foil, is consistent with the objective of reaching and sustaining a sufficient capacity utilization rate in the domestic aluminum industry.

6. In light of my determination to adjust the tariff proclaimed in Proclamation 9704 as applied to eligible aluminum articles imports from the UK, I have considered whether it is necessary and appropriate in light of our national security interests to make any corresponding adjustments to such tariff as it applies to other countries. I have determined that it is necessary and appropriate, at this time, to maintain the current tariff level as it applies to other countries.

7. Section 232 of the Trade Expansion Act of 1962, as amended, authorizes the President to adjust the imports of an article and its derivatives that are being imported into the United States in such quantities or under such circumstances as to threaten to impair the national security.

8. Section 604 of the Trade Act of 1974, as amended (19 U.S.C. 2483), authorizes the President to embody in the Harmonized Tariff Schedule of the United States (HTSUS) the substance of statutes affecting import treatment, and actions thereunder, including the removal, modification, continuance, or imposition of any rate of duty or other import restriction.

NOW, THEREFORE, I, JOSEPH R. BIDEN JR., President of the United States of America, by the authority vested in me by the Constitution and the laws of the United States of America, including section 232 of the Trade Expansion Act of 1962, as amended, section 301 of title 3, United States Code, and section 604 of the Trade Act of 1974, as amended, do hereby proclaim as follows:

(1) To establish a tariff-rate quota on imports of eligible aluminum articles from the UK as set forth in paragraph 4 of this proclamation, U.S. Note 19 of subchapter III of chapter 99 of the HTSUS is amended as provided for in the Annex to this proclamation. Imports of aluminum articles from the UK in excess of the tariff-rate quota quantities shall remain subject to the duties imposed by clause 2 of Proclamation 9704, as amended. The Secretary, in consultation with the United States Trade Representative and the Secretary of Homeland Security, shall recommend to the President, as warranted, updates to the in-quota volumes contained in the Annex to this proclamation. Aluminum articles from the UK imported under an exclusion granted pursuant to clause 3 of Proclamation 9704, as amended, shall count against the in-quota volume of the tariff-rate quota established in clause 1 of this proclamation.

(2) Clause 2 of Proclamation 9704, as amended, is further amended in the second sentence by deleting “and” before “(h)” and inserting before the period at the end: “, and (i) on or after 12:01 a.m. eastern daylight time on June 1, 2022, from all countries except Argentina, Australia, Canada, Mexico, and from the member countries of the European Union through 11:59 p.m. eastern standard time on December 31, 2023, and from the United Kingdom, for aluminum articles covered by headings 9903.85.25 through 9903.85.44, inclusive.”

(3) Aluminum articles eligible for treatment under clause 1 of this proclamation must be accompanied by a certificate of analysis in order to receive such treatment. Eligible semi-finished wrought aluminum articles must not contain primary aluminum from the People's Republic of China, the Russian Federation, or the Republic of Belarus. The Secretary, in consultation with the Secretary of Homeland Security and the United States Trade Representative, is authorized to take such actions as are necessary to ensure compliance with this requirement. Failure to comply could result in applicable remedies or penalties under United States law.

(4) The modifications to the HTSUS made by clause 1 of this proclamation shall be effective with respect to goods entered for consumption, or withdrawn from warehouse for consumption, on or after 12:01 a.m. eastern daylight time on June 1, 2022, and shall continue in effect, unless such actions are expressly reduced, modified, or terminated.

(5) Any imports of aluminum articles from the UK that were admitted into a U.S. foreign trade zone under “privileged foreign status” as defined in 19 CFR 146.41, prior to 12:01 a.m. eastern daylight time on June 1, 2022, shall be subject upon entry for consumption made on or after 12:01 a.m. eastern daylight time on June 1, 2022, to the provisions of the tariff-rate quota in effect at the time of the entry for consumption.

(6) Any provision of previous proclamations and Executive Orders that is inconsistent with the actions taken in this proclamation is superseded to the extent of such inconsistency.

IN WITNESS WHEREOF, I have hereunto set my hand this thirty-first day of May, in the year of our Lord two thousand twenty-two, and of the Independence of the United States of America the two hundred and forty-sixth.

Billing code 3395-F2-P

[FR Doc. 2022-12097

Filed 6-2-22; 8:45 am]

Billing code 7020-02-C